DEPARTMENT OF HOMELAND SECURITY

Coast Guard

33 CFR Part 117

[Docket No. USCG-2023-0652]

RIN 1625-AA09

Drawbridge Operation Regulation; Atlantic Intracoastal Waterway, Jupiter, FL

AGENCY: Coast Guard, Department of Homeland Security (DHS).

ACTION: Temporary final rule.

SUMMARY: The Coast Guard is temporarily modifying the operating schedule that governs the Indiantown Road Bridge across the Atlantic Intracoastal Waterway (AICW), mile 1006.2, at Jupiter, Florida. This action is necessary to alleviate vehicle traffic congestion on the Indiantown Road Bridge caused by the replacement of another nearby bridge. Once construction of the nearby bridge is complete, the Indiantown Road Drawbridge will return to normal scheduled operations.

DATES: This temporary final rule is effective from 12:01 a.m. on February 5, 2024, through 11:59 p.m. on August 31, 2025.

ADDRESSES: To view documents mentioned in this preamble as being available in the docket, go to https://www.regulations.gov. Type the docket number USCG-2023-0652 in the “SEARCH” box and click “SEARCH”. In the Document Type column, select “Supporting & Related Material.”

FOR FURTHER INFORMATION CONTACT: If you have questions on this temporary final rule, call or email Mr. Leonard Newsom, Seventh District Bridge Branch, Coast Guard; telephone (305) 415-6946, email Leonard.D.Newsom@uscg.mil.

SUPPLEMENTARY INFORMATION:

I. Table of Abbreviations

CFR Code of Federal Regulations

DHS Department of Homeland Security

FR Federal Register

OMB Office of Management and Budget

NPRM Notice of proposed rulemaking (advance, supplemental)

§ Section

U.S.C. United States Code

FL Florida

AICW Atlantic Intracoastal Waterway

FDOT Florida Department of Transportation

II. Background Information and Regulatory History

On October 20, 2023, the Coast Guard published a notice of proposed rulemaking entitled “Drawbridge Operation Regulation; Atlantic Intracoastal Waterway, at Jupiter, FL” in the Federal Register (88 FR 72415). There we stated why we issued the NPRM and invited comments on our proposed regulatory action related to this regulatory change. During the NPRM comment period that ended November 20, 2023, no comments were received.

III. Legal Authority and Need for Rule

The Coast Guard is issuing this rule under authority in 33 U.S.C. 499. The Indiantown Road Bridge across the AICW, mile 1006.2, at Jupiter, Florida. The Indiantown Road Bridge is a double-leaf bascule bridge with 35 feet of vertical clearance in the closed position. The operating schedule requires the bridge to open each hour and half-hour as needed per 33 CFR 117.261(q).

The bridge owner, Florida Department of Transportation, has requested this change during the replacement of an adjacent bridge. The closing of the adjacent bridge has resulted in significant increase in vehicle traffic congestion of the area. The only alternate route for land traffic to access the mainland is via the Donald Ross Bridge approximately 4.5 miles south of the Indiantown Road Bridge. This rule will reduce the number of openings which will subsequently allow the local traffic to flow with less obstructions and delay.

IV. Discussion of Comments, Changes, and the Temporary Final Rule

The Coast Guard provided a comment period of 30 days, and no comments were received. The current regulation provides for the bridge to open twice an hour. This temporary final rule allows for the bridge to remain closed to navigation during designated times and all other times open twice an hour. Vessels that can pass beneath the bridge without an opening may do so at any time.

V. Regulatory Analyses

We developed this rule after considering numerous statutes and Executive orders related to rulemaking. Below we summarize our analyses based on a number of these statutes and Executive orders.

A. Regulatory Planning and Review

Executive Orders 12866 and 13563 direct agencies to assess the costs and benefits of available regulatory alternatives and, if regulation is necessary, to select regulatory approaches that maximize net benefits. This rule has not been designated a “significant regulatory action,” under section 3(f) of Executive Order 12866, as amended by Executive Order 14094 (Modernizing Regulatory Review). This rule has not been designated a “significant regulatory action,” under Executive Order 12866. Accordingly, it has not been reviewed by the Office of Management and Budget (OMB).

This regulatory action determination is based on the ability that vessels able to transit the bridge while in the closed position may do so at any time.

B. Impact on Small Entities

The Regulatory Flexibility Act of 1980 (RFA), 5 U.S.C. 601-612, as amended, requires Federal agencies to consider the potential impact of regulations on small entities during rulemaking. The term “small entities” comprises small businesses, not-for-profit organizations that are independently owned and operated and are not dominant in their fields, and governmental jurisdictions with populations of less than 50,000. The Coast Guard received zero comments from the Small Business Administration on this rule. The Coast Guard certifies under 5 U.S.C. 605(b) that this rule will not have a significant economic impact on a substantial number of small entities.

While some owners or operators of vessels intending to transit the bridge may be small entities, for the reasons stated in section V.A above, this rule will not have a significant economic impact on any vessel owner or operator.

Under section 213(a) of the Small Business Regulatory Enforcement Fairness Act of 1996 (Pub. L. 104-121), we want to assist small entities in understanding this rule. If the rule would affect your small business, organization, or governmental jurisdiction and you have questions concerning its provisions or options for compliance, please contact the person listed in the FOR FURTHER INFORMATION CONTACT section.

Small businesses may send comments on the actions of Federal employees who enforce, or otherwise determine compliance with, Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247). The Coast Guard will not retaliate against small entities that question or complain about this rule or any policy or action of the Coast Guard.

C. Collection of Information

This rule calls for no new collection of information under the Paperwork Reduction Act of 1995 (44 U.S.C. 3501-3520).

D. Federalism and Indian Tribal Government

A rule has implications for federalism under Executive Order 13132, Federalism, if it has a substantial direct effect on the States, on the relationship between the National Government and the States, or on the distribution of power and responsibilities among the various levels of government. We have analyzed this rule under that order and have determined that it is consistent with the fundamental federalism principles and preemption requirements described in Executive Order 13132.

Also, this rule does not have tribal implications under Executive Order 13175, Consultation and Coordination with Indian Tribal Governments, because it does not have a substantial direct effect on one or more Indian tribes, on the relationship between the Federal Government and Indian tribes, or on the distribution of power and responsibilities between the Federal Government and Indian tribes.

E. Unfunded Mandates Reform Act

The Unfunded Mandates Reform Act of 1995 (2 U.S.C. 1531-1538) requires Federal agencies to assess the effects of their discretionary regulatory actions. In particular, the Act addresses actions that may result in the expenditure by a State, local, or Tribal government, in the aggregate, or by the private sector of $100,000,000 (adjusted for inflation) or more in any one year. Though this rule will not result in such an expenditure, we do discuss the effects of this rule elsewhere in this preamble.

F. Environment

We have analyzed this rule under Department of Homeland Security Management Directive 023-01, Rev.1, associated implementing instructions, and Environmental Planning Policy COMDTINST 5090.1 (series) which guide the Coast Guard in complying with the National Environmental Policy Act of 1969 (NEPA) (42 U.S.C. 4321-4370f). The Coast Guard has determined that this action is one of a category of actions that do not individually or cumulatively have a significant effect on the human environment. This rule promulgates the operating regulations or procedures for drawbridges and is categorically excluded from further review, under paragraph L49, of Chapter 3, Table3-1 of the U.S. Coast Guard Environmental Planning Implementation Procedures.

Neither a Record of Environmental Consideration nor a Memorandum for the Record are required for this rule.

List of Subjects in 33 CFR Part 117

Bridges.

For the reasons discussed in the preamble, the Coast Guard amends 33 CFR part 117 as follows:

PART 117—DRAWBRIDGE OPERATION REGULATIONS

1. The authority citation for part 117 continues to read as follows:

Authority: 33 U.S.C. 499; 33 CFR 1.05-1; and DHS Delegation No. 00170.1, Revision No. 01.3.

2. Amend § 117.261 by:

a. Adding paragraph (p); and

b. Staying paragraph (q).

The addition reads as follows:

§ 117.261 Atlantic Intracoastal Waterway from St. Marys River to Key Largo.

* * * * *

(p) Indiantown Road Bridge, mile 1006.2, at Jupiter. The draw shall open on the hour and half hour except that the draw need not open daily from 7 to 9 a.m. and 4 to 6 p.m.

* * * * *

Dated: January 27, 2024.
Douglas M. Schofield,
Rear Admiral, U.S. Coast Guard, Commander, Coast Guard Seventh District.

[FR Doc. 2024-02084 Filed 2-1-24; 8:45 am]

BILLING CODE 9110-04-P